DEPARTMENT OF THE INTERIOR

National Park Service

[N6595; NPS-WASO-NAGPRA-NPS0041308; PPWOCRADN0-PCU00RP14.R50000]

Notice of Intended Repatriation: St. Louis County Historical Society, Duluth, MN

AGENCY: National Park Service, Interior.

ACTION: Notice.

SUMMARY: In accordance with the Native American Graves Protection and Repatriation Act (NAGPRA), the St. Louis County Historical Society (SLCHS) intends to repatriate certain cultural items that meet the definition of objects of cultural patrimony and that have a cultural affiliation with the Indian Tribes or Native Hawaiian organizations in this notice.

DATES: Repatriation of the cultural items in this notice may occur on or after December 18, 2025.

ADDRESSES: Send additional, written requests for repatriation of the cultural items in this notice to Terry Johnson, St. Louis County Historical Society, 506 West Michigan Street, Duluth, MN 55802, email terry@thehistorypeople.org.

SUPPLEMENTARY INFORMATION: This notice is published as part of the National Park Service's administrative responsibilities under NAGPRA. The determinations in this notice are the sole responsibility of the SLCHS and additional information on the determinations in this notice, including the results of consultation, can be found in the summary or related records. The National Park Service is not responsible for the determinations in this notice.

Abstract of Information Available

A total of five cultural items have been requested for repatriation. The five objects of cultural patrimony are three pipe bowls and two pipe stems. The five objects were sourced as part of WPA projects in Grand Portage, MN. The pipe stem labeled as 39.3.10.2 is associated with Chief Joeseph Louis Memashkawash.

Determinations

The SLCHS has determined that:

• The five objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Minnesota Chippewa Tribe, Minnesota (Grand Portage Band).

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after December 18, 2025. If competing requests for repatriation are received, the SLCHS must determine the most appropriate requestor prior to repatriation. Requests for joint repatriation of the cultural items are considered a single request and not competing requests. The SLCHS is responsible for sending a copy of this notice to the Indian Tribes and Native Hawaiian organizations identified in this notice and to any other consulting parties.

Authority: Native American Graves Protection and Repatriation Act, 25 U.S.C. 3004 and the implementing regulations, 43 CFR 10.9.

Dated: September 30, 2025.
Melanie O'Brien,
Manager, National NAGPRA Program.

[FR Doc. 2025-20120 Filed 11-17-25; 8:45 am]

BILLING CODE 4312-52-P